ENVIRONMENTAL PROTECTION AGENCY

[FRL-7449-7]

Proposed National Pollutant Discharge Elimination System (NPDES) General Permits for Storm Water Discharges from Construction Activities—Extension of Comment Period

Correction

In notice document 03-3240 beginning on page 6451 in the issue of Friday, February 7, 2003, make the following correction:

On page 6451, in the second column, under SUMMARY, in the eighth line, “February 13, 2003” should read, “February 3, 2003”.

[FR Doc. C3-3240 Filed 2-13-03; 8:45 am]

BILLING CODE 1505-01-D

DEPARTMENT OF TRANSPORTATION

Federal Aviation Administration

14 CFR Part 39

[Docket No. 2003-CE-07-AD; Amendment 39-13043; AD 2003-03-18]

RIN 2120-AA64

Airworthiness Directives; Raytheon Aircraft Company Beech Models 1900, 1900C, and 1900D Airplanes

Correction

In rule document 03-2784 beginning on page 5822 in the issue of Wednesday, February 5, 2003, make the following correction:

§ 39.13 [Corrected]

On page 5823, in § 39.13, in the table, in the second column, under the heading “Compliance”, in the last line, “AC” should read, “AD”.

[FR Doc. C3-2784 Filed 2-13-03; 8:45 am]

BILLING CODE 1505-01-D

DEPARTMENT OF TRANSPORTATION

Federal Aviation Administration

14 CFR Part 71

[Docket No. FAA-2003-14347; Airspace Docket No. 03-ACE-4]

Modification of Class D Airspace; and Modification of Class E Airspace; Topeka, Philip Billard Municipal Airport, KS

Correction

In rule document 03-3266 beginning on page 6606 in the issue of Monday, February 10, 2003 make the following correction:

On page 6606, in the second column, under the heading Comments Invited, in the eighth line, after “reasoned” add the following text: “regulatory decisions on the proposal. Comments are specifically invited on the overall”.

[FR Doc. C3-3266 Filed 2-13-03; 8:45 am]

BILLING CODE 1505-01-D